DEPARTMENT OF LABOR

Mine Safety and Health Administration

Petitions for Modification

The following parties have filed petitions to modify the application of existing safety standards under section 101(c) of the Federal Mine Safety and Health Act of 1977.

1. Eastern Associated Coal, LLC

[Docket No. M-2006-024-C]

Eastern Associated Coal, LLC, HCR 78, Box 113, Wharton, West Virginia 25208 has filed a petition to modify the application of 30 CFR 75.500(d) (Permissible electric equipment) to its Harris No. 1 Mine (MSHA I.D. No. 46-01271) located in Boone County, West Virginia. The petitioner requests a modification of the existing standard to permit the use of battery-powered non-permissible computers in or inby the last open crosscut, including in the return airway. The petitioner proposes to use the hand-held computers to allow supervisors and selected miners to collect and record data pertinent to safety observations during work processes. The petitioner asserts that the proposed alternative method would provide at least the same measure of protection as the existing standard.

2. Eastern Associated Coal, LLC

[Docket No. M-2006-025-C]

Eastern Associated Coal, LLC, HCR 78, Box 113, Wharton, West Virginia 25208 has filed a petition to modify the application of 30 CFR 75.500(d) (Permissible electric equipment) to its Matewan Tunnel Mine (MSHA I.D. No. 46-08610) located in Boone County, West Virginia. The petitioner requests a modification of the existing standard to permit the use of battery-powered non-permissible computers in or inby the last open crosscut, including in the return airway. The petitioner proposes to use the hand-held computers to allow supervisors and selected miners to collect and record data pertinent to safety observations during work processes. The petitioner asserts that the proposed alternative method would provide at least the same measure of protection as the existing standard.

3. Eastern Associated Coal, LLC

[Docket No. M-2006-026-C]

Eastern Associated Coal, LLC, St. Rt. 85, HCR 78, P.O. Box 113, Wharton, WV 25208 has filed a petition to modify the application of 30 CFR 75.500(d) (Permissible electric equipment) to its Powellton Tunnel Mine (MSHA I.D. No. 46-08762) located in Boone County, West Virginia. The petitioner requests a modification of the existing standard to permit the use of battery-powered non-permissible computers in or inby the last open crosscut, including in the return airway. The petitioner proposes to use the hand-held computers to allow supervisors and selected miners to collect and record data pertinent to safety observations during work processes. The petitioner asserts that the proposed alternative method would provide at least the same measure of protection as the existing standard.

4. Eastern Associated Coal, LLC

[Docket No. M-2006-027-C]

Eastern Associated Coal, LLC, P.O. Box 29, Wharton, West Virginia 25208 has filed a petition to modify the application of 30 CFR 75.500(d) (Permissible electric equipment) to its Wharton 1 Tunnel Mine (MSHA I.D. No. 46-05071) located in Boone County, West Virginia. The petitioner requests a modification of the existing standard to permit the use of battery-powered non-permissible computers in or inby the last open crosscut, including in the return airway. The petitioner proposes to use the hand-held computers to allow supervisors and selected miners to collect and record data pertinent to safety observations during work processes. The petitioner asserts that the proposed alternative method would provide at least the same measure of protection as the existing standard.

5. Rivers Edge Mining, Inc.

[Docket No. M-2006-028-C]

Rivers Edge Mining, Inc., P.O. Box 120, Wharton, West Virginia 25208 has filed a petition to modify the application of 30 CFR 75.500(d) (Permissible electric equipment) to its Rivers Edge Mine (MSHA I.D. No. 46-08890) located in Boone County, West Virginia. The petitioner requests a modification of the existing standard to permit the use of battery-powered non-permissible computers in or inby the last open crosscut, including in the return airway. The petitioner proposes to use the hand-held computers to allow supervisors and selected miners to collect and record data pertinent to safety observations during work processes. The petitioner asserts that the proposed alternative method would provide at least the same measure of protection as the existing standard.

6. Pine Ridge Coal Company

[Docket No. M-2006-029-C]

Pine Ridge Coal Company, 50 Schoolhouse Road, Seth, West Virginia 25181 has filed a petition to modify the application of 30 CFR 75.500(d) (Permissible electric equipment) to its Big Mountain No. 16 Mine (MSHA I.D. No. 46-07908) located in Boone County, West Virginia. The petitioner requests a modification of the existing standard to permit the use of battery-powered non-permissible computers in or inby the last open crosscut, including in the return airway. The petitioner proposes to use the hand-held computers to allow supervisors and selected miners to collect and record data pertinent to safety observations during work processes. The petitioner asserts that the proposed alternative method would provide at least the same measure of protection as the existing standard.

7. Orchard Coal Company

[Docket No. M-2006-030-C]

Orchard Coal Company, 214 Vaux Road, Tremont, Pennsylvania 17981 has filed a petition to modify the application of 30 CFR 75.1714-2(c) (Self-rescue devices; use and location requirements) to its Orchard Slope Mine (MSHA I.D. No. 36-08346) located in Schuylkill County, Pennsylvania. The petitioner requests a modification of the existing standard to permit self-contained self-rescue (SCSR) devices to be stored within 200 feet of the working face. The petitioner states that in steeply pitching, conventional anthracite mines, entries are advanced as far as 200 feet vertically, which exposes the miner to trip and fall hazards. The petitioner further states that the necessity of carrying supplies up narrow entries while wearing the SCSRs may result in damage to the SCSR and also may result in a diminution of safety to the miner. The petitioner asserts that modification of the standard would provide at least the same measure of protection as the existing standard.

Request for Comments

Persons interested in these petitions are encouraged to submit comments via e-mail to zzMSHA-Comments@dol.gov. Include “petitions for modification” in the subject line of the e-mail. Comments can also be submitted by fax, regular mail, or hand-delivery. If faxing your comments, include “petitions for modification” on the subject line of the fax. Comments by regular mail or hand-delivery should be submitted to the Mine Safety and Health Administration, Office of Standards, Regulations, and Variances, 1100 Wilson Boulevard, Room 2350, Arlington, Virginia 22209. If hand-delivered, you are required to stop by the 21st floor to check in with the receptionist. All comments must be postmarked or received by the Office of Standards, Regulations, and Variances on or before September 28, 2006. Copies of the petitions are available for inspection at that address.

Dated at Arlington, Virginia, this 21st day of August 2006.
Patricia W. Silvey,
Acting Director, Office of Standards, Regulations, and Variances.

[FR Doc. E6-14308 Filed 8-28-06; 8:45 am]

BILLING CODE 4510-43-P